GENERAL SERVICES ADMINISTRATION

[OMB Control No. 3090-0307; Docket No. 2018-0001; Sequence No. 13]

Information Collections; GSA 3729 Wireless Telecommunications Company Application

AGENCY: Office of Government-wide Policy (OGP), General Services Administration (GSA).

ACTION: Notice.

SUMMARY: The data collection previously approved under OMB Control Number 3090-0307, GSA 3729 Wireless Telecommunications Company Application (GSA 3729) is no longer active and has been removed from GSA's website. The SF-299, Application for Transportation and Utility Systems and Facilities on Federal Lands, will be modified to incorporate the information contained in the GSA 3729 and should be used in its current format, until the revised form is approved for use.

DATES: Applicability Date: This notice applies to all applications received after the date of this notice.

FOR FURTHER INFORMATION CONTACT: Mr. Chris Coneeney, Real Property Policy Division, GSA, by phone at 202-208-2956, or by email at chris.coneeney@gsa.gov. Please cite Notice of termination of GSA 3729 Wireless Telecommunications Company Application.

SUPPLEMENTARY INFORMATION: Federal agencies may no longer accept the GSA 3729 Wireless Telecommunications Company Application (GSA 3729), as the form expired on September 30, 2018. The SF-299 Application for Transportation and Utility Systems and Facilities on Federal Lands will be modified to include the information contained in the GSA 3729 and should be used in its current format to process any wireless telecommunications applications until the new form is approved for use. Agencies may continue to process the GSA 3729 application if it was received by the agency prior to the date of this notice.

Dated: June 3, 2019.
David A. Shive,
Chief Information Officer.

[FR Doc. 2019-15555 Filed 7-22-19; 8:45 am]

BILLING CODE 6820-14-P